DEPARTMENT OF COMMERCE

National Oceanic and Atmospheric Administration

[I.D. 041200B]

Incidental Take of Marine Mammals; Taking of Ringed Seals Incidental to On-ice Seismic Activities

AGENCY: National Marine Fisheries Service (NMFS), National Oceanic and Atmospheric Administration (NOAA), Commerce.

ACTION: Notice of issuance of a letter of authorization.

SUMMARY: In accordance with the Marine Mammal Protection Act (MMPA), as amended, and with implementing regulations, notification is hereby given that a letter of authorization (LOA) to take ringed and bearded seals incidental to an on-ice shallow-water seismic survey in the Beaufort Sea off Alaska was issued on April 20, 2000, to Western Geophysical of Anchorage, AK.

DATES: This letter of authorization is effective from April 20, 2000, through May 31, 2000.

ADDRESSES: The application letters and LOA are available for review in the following offices: Office of Protected Resources, NMFS, 1315 East-West Highway, Silver Spring, MD 20910, and Western Alaska Field Office, NMFS, 701 C Street, Anchorage, AK 99513.

FOR FURTHER INFORMATION CONTACT: Kenneth R. Hollingshead, NMFS, (301) 713-2055, ext 128 or Brad Smith, Western Alaska Field Office, NMFS, (907) 271-5006.

SUPPLEMENTARY INFORMATION: Section 101(a)(5)(A) of the MMPA (16 U.S.C. 1361 et seq.) directs NMFS to allow, on request, the incidental, but not intentional, taking of small numbers of marine mammals by U.S. citizens who engage in a specified activity (other than commercial fishing) within a specified geographical region, if certain findings are made by NMFS and regulations are issued. Under the MMPA, the term “taking” means to harass, hunt, capture, or kill or to attempt to harass, hunt, capture or kill marine mammals.

Permission may be granted for periods up to 5 years if NMFS finds, after notification and opportunity for public comment, that the taking will have a negligible impact on the species or stock(s) of marine mammals and will not have an unmitigable adverse impact on the availability of the species or stock(s) for subsistence uses. In addition, NMFS must prescribe regulations that include permissible methods of taking and other means effecting the least practicable adverse impact on the species and its habitat and on the availability of the species for subsistence uses, paying particular attention to rookeries, mating grounds, and areas of similar significance. The regulations must include requirements pertaining to the monitoring and reporting of such taking. Regulations governing the taking of ringed and bearded seals incidental to on-ice seismic surveys were published on February 2, 1998 (63 FR 5277), and remain in effect until December 31, 2002.

Summary of Request

NMFS received requests for letters of authorization from Western Geophysical on September 23, 1999, and October 14, 1999. LOAs for these activities were issued on January 28, 2000 (see 65 FR 4949, February 2, 2000). A third application from Western Geophysical was received on January 31, 2000, and amended by letter on February 21, 2000. The letters requested a take by mortality, injury, and harassment of a small number of ringed seals incidental to conducting shallow-water seismic surveys on the ice in the Beaufort Sea off Alaska.

Issuance of this new letter of authorization is based on findings that the total takings by this activity will have a negligible impact on the ringed seal stocks of the Western Beaufort Sea and that the applicants have met the requirements contained in the implementing regulations, including monitoring and reporting requirements.

Dated: April 20, 2000.
Donald R. Knowles,
Director, Office of Protected Resources, National Marine Fisheries Service.

[FR Doc. 00-10385 Filed 4-25-00; 8:45 am]

BILLING CODE 3510-22-F